ENVIRONMENTAL PROTECTION AGENCY

[ER-FRL-8992-7]

Environmental Impact Statements; Notice of Availability

Responsible Agency: Office of Federal Activities, General Information (202) 564-1399 or http://www.epa.gov/compliance/nepa/.

Weekly receipt of Environmental Impact Statements

Filed 09/07/2010 Through 09/10/2010

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100367, Draft EIS, USFS, CO, Big Moose Vegetation Management Project, Implementation, Divide Ranger District, Rio National Forest, Hinsdale and Mineral Counties, CO, Comment Period Ends: 11/01/2010, Contact: Thomas Malecek 719-657-3321.

EIS No. 20100368, Draft EIS, USFS, WA, Pack and Saddle Stock Outfitter-Guide Special Use Permit Issuance, Okanogan, Chelah, and Skagit Counties, WA, Comment Period Ends: 11/01/2010, Contact: Jennifer Zbyszewski 509-996-4021.

EIS No. 20100369, Draft EIS, FTA, CA, Hercules Intermodal Transit Center, Construction To Improve Access to Public Transit, Funding, Contra Costa County, CA, Comment Period Ends: 11/01/2010, Contact: Paul Page 415-744-3133.

EIS No. 20100370, Final EIS, FHWA, WY, Jackson South Project, US/26/89/189/91 Improvements, Funding and Right-of-Way Approval, Teton County, WY, Wait Period Ends: 10/18/2010, Contact: Lee Potter 307-771-2946.

EIS No. 20100371, Final EIS, USDA, MN, Bemidji—Grand Rapid 230 kV Transmission Line Project, Propose to Construct and Operate, Beltrami, Hubbard, Cass, Itasca Counties, MN, Wait Period Ends: 10/18/2010, Contact: Stephanie Strength 202-720-0468.

EIS No. 20100372, Draft Supplement, FHWA, GA, Northwest Corridor Improvements, I-75/I-575 Construction, New Alternative, USACE Section 404 Permit, NPDES Permit, Cobb and Cherokee Counties, CA, Comment Period Ends: 11/03/2010, Contact: Rodney N. Barry 404-562-3630.

EIS No. 20100373, Draft EIS, DOE, CA, Energia Sierra Juarez U.S. Transmission Line Project, Construction, Operation, Maintenance, and Connection of either 230-kilovolt or a 500-kilovolt Electric Transmission Line Crossing U.S.-Mexico Border, Presidential Permit Approval, San Diego County, CA, Comment Period Ends: 11/01/2010, Contact: Dr. Jerry Pell 202-586-3362.

Amended Notices

EIS No. 20100281, Draft EIS, FHWA, IN, I-69 Evansville to Indianapolis Tier 2 Section 4 Project, From U.S. 231 (Crane NSWC) to IN-37 South of Bloomington in Section 4, Greene and Monroe Counties, IN, Comment Period Ends: 10/28/2010, Contact: Janice Osadczuk 317-226-7486. Revision to FR Notice 07/30/2010: Extending Comment Period from 09/28/2010 to 10/28/2010.

EIS No. 20100360, Draft Supplement, USFS, CA, Gemmill Thin Project, Updated Information on Four Alternatives, Chanchellula Late-Successional Reserve, Shasta-Trinity National Forest, Trinity County, CA, Comment Period Ends: 10/25/2010, Contact: Bobbie DiMonte Miller 530-226-2425. Revision to FR 09/10/2010: Change Draft to Draft Supplemental.

EIS No. 20100363, Draft EIS, NOAA, NC, Gray's Reef National Marine Sanctuary (GRNMS) Research Areas Designation, Establish a Research Area, Implementation, NC, Comment Period Ends: 12/08/2010, Contact: George Sedberry 912-598-2345. Revision to FR Notice 09/10/2010: Correction to the State from GA to NC.

Dated: September 14, 2010.
Robert W. Hargrove,
Director, NEPA Compliance Division, Office of Federal Activities.

[FR Doc. 2010-23325 Filed 9-16-10; 8:45 am]

BILLING CODE 6560-50-P